DEPARTMENT OF TRANSPORTATION

Federal Aviation Administration

Aviation Rulemaking Advisory Committee Meeting

AGENCY: Federal Aviation Administration (FAA), DOT.

ACTION: Notice of public meeting.

SUMMARY: This notice announces a public meeting of the FAA's Aviation Rulemaking Advisory Committee to discuss rotorcraft issues.

DATES: The meeting will be held on Tuesday, June 25, 2002, at 1 p.m. Central Standard Time (CST).

ADDRESSES: Persons in the Fort Worth, Texas area can participate in the teleconference in the FAA Regional Office, ASW-7 Conference Room 1, 6th Floor, 2601 Meacham Blvd., Fort Worth, Texas 76137. Those people in the Washington, DC metropolitan area can come to the FAA headquarters building, 800 Independence Ave., Conference Room in Room 810, Washington, DC to access the teleconference.

FOR FURTHER INFORMATION CONTACT: Mary Ann Phillips, FAA, Rotorcraft Directorate, ASW-111, 2601 Meacham Blvd., Fort Worth, TX 76137, telephone (817) 222-5124, e-mail mary.ann.phillips@faa.gov.

SUPPLEMENTARY INFORMATION: The referenced meeting is announced pursuant to section 10(a)(2) of the Federal Advisory Committee Act (Pub. L. 92-463; 5 U.S.C. App. II). The agenda will include approval of requesting legal and economic drafting support for the following two notices of proposed rulemaking (NPRMs):

• Damage Tolerance and Fatigue Evaluation of Metallic Rotorcraft Structure.

• Damage Tolerance and Fatigue Evaluation of Composite Rotorcraft Structure.

Attendance is open to the public but will be limited to the space available on the telephone conferencing system. The telephone number for participating in the teleconference will be available by contacting the person listed under the heading FOR FURTHER INFORMATION CONTACT.

The public must make arrangements to present oral statements at the meeting. Written statements may be presented to the committee at any time by providing 16 copies to the Assistant Chair at least 7 days prior to the meeting. Copies of the NPRMs that will be presented may be obtained by contacting Mary Ann Phillips at (817) 222-5124 or by e-mailing her at: mary.ann.phillips@faa.gov.

If you are in need of assistance or require a reasonable accommodation for the meeting, please contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Fort Worth, Texas, on June 4, 2002.
James A. Grigg,
Acting Assistant Executive Director for Rotorcraft Issues, Aviation Rulemaking Advisory Committee.

[FR Doc. 02-14753 Filed 6-11-02; 8:45 am]

BILLING CODE 4910-13-M